DEPARTMENT OF HEALTH AND HUMAN SERVICES

Agency for Healthcare Research and Quality

Public Meeting on the Effect of Credentialing of Technologists and Sonographers on the Quality of Ultrasound Tests

AGENCY: Agency for Healthcare Research and Quality (AHRQ), formerly known as the Agency for Health Care Policy and Research (AHCPR).

ACTION: Notice of public meeting.

SUMMARY: As a first step in arranging for the conduct of a Congressionally mandated study, this Notice announces a public meeting for the purpose of receiving oral and written information on the subject of the effect of the credentialing of technologists and sonographers on the quality of ultrasound tests measured in terms of error rates, related complications, and patient outcomes, particularly with respect to the Medicare and Medicaid populations.

DATES: The meeting will be on March 29, 2000 from 9:00 a.m. to 12:00 p.m.

ADDRESSES: The meeting will be at the Agency for Healthcare Research and Quality conference center, 6010 Executive Blvd., 4th Floor, Rockville, MD 20852.

FOR FURTHER INFORMATION CONTACT: Jacqueline Besteman, J.D., M.A., Center for Practice and Technology Assessment, AHRQ, 6010 Executive Blvd., Suite 300, Rockville, MD 20852; Phone: (301) 594-4017; Fax: (301) 594-4027; E-mail: jbestema@ahrq.gov.

Arrangements for the Public Meeting

Representatives of organizations and other individuals are invited to provide relevant written comments and information to AHRQ, and to make a brief (10 minutes or less) oral statement at the meeting. Individuals and representatives who would like to attend must register with Jacqueline Besteman, AHRQ, at the address above 2 weeks prior to the date of meeting. One copy of the written materials should also be submitted to Ms. Besteman. On the day of the meeting, presenters are requested to bring 25 copies of their written materials for distribution.

If sign language interpretation or other reasonable accommodations for a disability is needed, please contact Linda Reeves, Assistant Administrator for Equal Opportunity, AHRQ, on (301) 594-6662 no later than (insert at least 3 days before the meeting).

SUPPLEMENTARY INFORMATION:

1. Background

On December 6, 1999, the former Agency for Health Care Policy and Research, was reauthorized and renamed the Agency for Healthcare Research and Quality (AHRQ) by P.L. 106-129, the Healthcare Research and Quality Act of 1999. The legislation directed AHRQ to improve the quality of health care, promote patient safety and reduce medical errors through research, including research on the use of health care services and outcomes research.

Shortly before the Agency became AHRQ, section 229 of the Medicare, Medicaid and SCHIP Balanced Budget Refinement Act of 1999 (incorporated by reference in, and enacted by section 1000(a) of Public Law 106-113) directed that the Agency (then AHCPR) provide for a study of differences in quality between ultrasound services furnished by individuals who are credentialed and ultrasound services furnished by those who are not so credentialed. This study is to examine and evaluate differences in error rates, resulting complications, and patient outcomes and determine any quality differences that can be correlated with the differences in credentialing. In particular, the Congress indicated that findings should be made with respect to the provision of ultrasound under the Medicare and Medicaid programs under titles XVIII and XIX of the Social Security Act. In designing the study, the Administrator is to consult with organizations nationally recognized for their expertise in ultrasound. A report on the study is to be sent to Congress within two years of the enactment of this statutory research mandate (approximately November 2001).

2. Purpose

AHRQ is holding this meeting to gather pertinent scientific information and professional views that would contribute to the conduct of this study of the effect of credentialing of technologists and sonographers on the quality of ultrasound services, and especially information with respect to such services provided under the Medicare and Medicaid programs, Titles XVIII and XIX of the Social Security Act. AHRQ is interested in receiving information on the availability of relevant published literature, secondary data sources, and/or unpublished data, as well as information about other factors that may affect ultrasound results (for example, other quality assurance and control processes.)

3. Agenda

The meeting will begin at 9:00 a.m. and continue through 12:00 p.m. The Director of AHRQ's Center for Practice and Technology Assessment will chair the meeting. If more requests to make oral statements are received than can be accommodated at this meeting between 9:00 a.m. and 12:00 p.m., the chair will allocate speaking time in a manner that attempts, to the extent possible, to have a range of information, findings and views presented orally. Those who cannot be granted speaking time because of time constraints are assured that their written comments will be considered along with other evidence during the course of the study.

Dated: February 15, 2000.
John M. Eisenberg,
Director, AHRQ.

[FR Doc. 00-4647 Filed 2-25-00; 8:45 am]

BILLING CODE 4160-90-M